DEPARTMENT OF ENERGY

Federal Energy Regulatory Commission

Combined Notice of Filings

Take notice that the Commission has received the following Natural Gas Pipeline Rate and Refund Report filings:

Filings Instituting Proceedings

Docket Numbers: RP19-206-003.

Applicants: Mississippi Canyon Gas Pipeline, L.L.C.

Description: Compliance filing MCGP Further Extension of Time to file Form 501-G.

Filed Date: 3/22/19.

Accession Number: 20190322-5168.

Comments Due: 5 p.m. ET 3/27/19.

Docket Numbers: RP19-851-000.

Applicants: Algonquin Gas Transmission, LLC.

Description: Compliance filing Algonquin Order 587-Y (Docket RM96-1-041) Compliance Filing to be effective 8/1/2019.

Filed Date: 3/21/19.

Accession Number: 20190321-5002.

Comments Due: 5 p.m. ET 4/2/19.

Docket Numbers: RP19-852-000.

Applicants: NEXUS Gas Transmission, LLC.

Description: Compliance filing NEXUS Order 587-Y (Docket RM96-1-041) Compliance Filing to be effective 8/1/2019.

Filed Date: 3/21/19.

Accession Number: 20190321-5003.

Comments Due: 5 p.m. ET 4/2/19.

Docket Numbers: RP19-853-000.

Applicants: Big Sandy Pipeline, LLC.

Description: Compliance filing Big Sandy Order 587-Y (Docket RM96-1-041) Compliance Filing to be effective 8/1/2019.

Filed Date: 3/21/19.

Accession Number: 20190321-5021.

Comments Due: 5 p.m. ET 4/2/19.

Docket Numbers: RP19-854-000.

Applicants: Gulfstream Natural Gas System, L.L.C.

Description: Compliance filing Gulfstream Order 587-Y (Docket RM96-1-041) Compliance Filing to be effective 8/1/2019.

Filed Date: 3/21/19.

Accession Number: 20190321-5028.

Comments Due: 5 p.m. ET 4/2/19.

Docket Numbers: RP19-855-000.

Applicants: Iroquois Gas Transmission System, L.P.

Description: § 4(d) Rate Filing: 032119 Negotiated Rates—Freepoint Commodities LLC R-7250-24 to be effective 4/1/2019.

Filed Date: 3/21/19.

Accession Number: 20190321-5031.

Comments Due: 5 p.m. ET 4/2/19.

Docket Numbers: RP19-856-000.

Applicants: Sabal Trail Transmission, LLC.

Description: Compliance filing Sabal Trail Order 587-Y (Docket RM96-1-041) Compliance Filing to be effective 8/1/2019.

Filed Date: 3/21/19.

Accession Number: 20190321-5034.

Comments Due: 5 p.m. ET 4/2/19.

Docket Numbers: RP19-857-000.

Applicants: Garden Banks Gas Pipeline, LLC.

Description: Compliance filing Garden Banks 587-Y (RM96-1-041) nCompliance Filing to be effective 8/1/2019.

Filed Date: 3/21/19.

Accession Number: 20190321-5035.

Comments Due: 5 p.m. ET 4/2/19.

Docket Numbers: RP19-858-000.

Applicants: Southeast Supply Header, LLC.

Description: Compliance filing SESH Order 587-Y (Docket RM96-1-041) Compliance Filing to be effective 8/1/2019.

Filed Date: 3/21/19.

Accession Number: 20190321-5036.

Comments Due: 5 p.m. ET 4/2/19.

Docket Numbers: RP19-859-000.

Applicants: Iroquois Gas Transmission System, L.P.

Description: § 4(d) Rate Filing: 032119 Negotiated Rates—Freepoint Commodities LLC R-7250-23 to be effective 4/1/2019.

Filed Date: 3/21/19.

Accession Number: 20190321-5037.

Comments Due: 5 p.m. ET 4/2/19.

Docket Numbers: RP19-860-000.

Applicants: Iroquois Gas Transmission System, L.P.

Description: § 4(d) Rate Filing: 032119 Negotiated Rates—Mercuria Energy America, Inc. R-7540-16 to be effective 4/1/2019.

Filed Date: 3/21/19.

Accession Number: 20190321-5042.

Comments Due: 5 p.m. ET 4/2/19.

Docket Numbers: RP19-861-000.

Applicants: Iroquois Gas Transmission System, L.P.

Description: § 4(d) Rate Filing: 032119 Negotiated Rates—Mercuria Energy America, Inc. R-7540-17 to be effective 4/1/2019.

Filed Date: 3/21/19.

Accession Number: 20190321-5045.

Comments Due: 5 p.m. ET 4/2/19.

Docket Numbers: RP19-862-000.

Applicants: Granite State Gas Transmission, Inc.

Description: Compliance filing Map Compliance Filing to be effective 5/1/2019.

Filed Date: 3/21/19.

Accession Number: 20190321-5100.

Comments Due: 5 p.m. ET 4/2/19.

Docket Numbers: RP19-863-000.

Applicants: Granite State Gas Transmission, Inc.

Description: Compliance filing NAESB Version 3.1 Compliance Filing to be effective 8/1/2019.

Filed Date: 3/21/19.

Accession Number: 20190321-5101.

Comments Due: 5 p.m. ET 4/2/19.

Docket Numbers: RP19-864-000.

Applicants: Mississippi Canyon Gas Pipeline, L.L.C.

Description: Compliance filing Mississippi Canyon 587-Y (RM96-1-041) Compliance Filing to be effective 8/1/2019.

Filed Date: 3/21/19.

Accession Number: 20190321-5141.

Comments Due: 5 p.m. ET 4/2/19.

Docket Numbers: RP19-865-000.

Applicants: Alliance Pipeline L.P.

Description: § 4(d) Rate Filing: Contract 1009843 Correction Filing to be effective 4/22/2019.

Filed Date: 3/22/19.

Accession Number: 20190322-5003.

Comments Due: 5 p.m. ET 4/3/19.

Docket Numbers: RP19-866-000.

Applicants: Iroquois Gas Transmission System, L.P.

Description: § 4(d) Rate Filing: 032219 Negotiated Rates—Mieco Inc. R-7080-07 to be effective 4/1/2019.

Filed Date: 3/22/19.

Accession Number: 20190322-5004.

Comments Due: 5 p.m. ET 4/3/19.

Docket Numbers: RP19-867-000.

Applicants: Iroquois Gas Transmission System, L.P.

Description: § 4(d) Rate Filing: 032219 Negotiated Rates—Mieco Inc. R-7080-08 to be effective 4/1/2019.

Filed Date: 3/22/19.

Accession Number: 20190322-5005.

Comments Due: 5 p.m. ET 4/3/19.

Docket Numbers: RP19-868-000.

Applicants: Enable Gas Transmission, LLC.

Description: Annual Revenue Crediting Filing of Enable Gas Transmission, LLC under RP19-868.

Filed Date: 3/21/19.

Accession Number: 20190321-5176.

Comments Due: 5 p.m. ET 4/2/19.

Docket Numbers: RP19-869-000.

Applicants: Panhandle Eastern Pipe Line Company, LP.

Description: Compliance filing Flow Through of Cash Out Revenues filed on 3-22-19.

Filed Date: 3/22/19.

Accession Number: 20190322-5052.

Comments Due: 5 p.m. ET 4/3/19.

Docket Numbers: RP19-870-000.

Applicants: Nautilus Pipeline Company, L.L.C.

Description: Compliance filing Nautilus 587Y (RM96-1-041) Compliance Filing to be effective 8/1/2019.

Filed Date: 3/22/19.

Accession Number: 20190322-5058.

Comments Due: 5 p.m. ET 4/3/19.

Docket Numbers: RP19-871-000.

Applicants: El Paso Natural Gas Company, L.L.C.

Description: § 4(d) Rate Filing: Negotiated Rate Agreement Update (Pioneer Apr-Jun 2019) to be effective 4/1/2019.

Filed Date: 3/22/19.

Accession Number: 20190322-5115.

Comments Due: 5 p.m. ET 4/3/19.

Docket Numbers: RP19-872-000.

Applicants: RRI Energy Services, LLC,Morgan Stanley Capitol Group Inc.

Description: Joint Petition for Limited Waiver of Capacity Release Regulations and Policies, et al. of RRI Energy Services, LLC, et al. under RP19-872.

Filed Date: 3/22/19.

Accession Number: 20190322-5137.

Comments Due: 5 p.m. ET 4/3/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2019.
Nathaniel J. Davis, Sr.,
Deputy Secretary.

[FR Doc. 2019-06118 Filed 3-28-19; 8:45 am]

BILLING CODE 6717-01-P